DEPARTMENT OF COMMERCE

National Oceanic and Atmospheric Administration

RIN 0648-XA841

Pacific Fishery Management Council; Public Meetings/Workshop

AGENCY: National Marine Fisheries Service (NMFS), National Oceanic and Atmospheric Administration (NOAA), Commerce.

ACTION: Notice of public teleconference.

SUMMARY: The NMFS Northwest Fisheries Science Center and Pacific Fishery Management Council (Council) will hold an online webinar to review and critique its groundfish stock assessment process in 2011. The online Groundfish Stock Assessment Process Review Workshop webinar is open to the public.

DATES: The Groundfish Stock Assessment Process Review Workshop webinar will commence at 1 p.m., Thursday, December 8, 2011 and continue until 5 p.m. or as necessary to complete business for the day.

ADDRESSES: To join the online Groundfish Stock Assessment Process Review Workshop webinar from the U.S. Pacific time zone, go to https://nwfsc.webex.com/nwfsc/j.php?ED=164913422&UID=1227485477&RT=MiM0. To join the online Groundfish Stock Assessment Process Review Workshop webinar from other time zones or to view the webinar in languages other than English, go to https://nwfsc.webex.com/nwfsc/j.php?ED=164913422&UID=1227485477&ORT=MiM0. If requested, enter your name, email address, and the meeting number, which is 805-527-249. Click “join” when the login process is completed. No password is required to join the online webinar.

To only join the audio teleconference of the Groundfish Stock Assessment Process Review Workshop from the U.S. or Canada, call the toll number 1 (408) 600-3600 (note: this is not a toll-free number) and use the access code 805-527-249 when prompted.

A public listening station for the Groundfish Stock Assessment Process Review Workshop webinar will also be available in the large conference room at the Council office, 7700 NE. Ambassador Place, Suite 101, Portland, OR 97220-1384; telephone: (503) 820-2280. Other public listening stations may be organized prior to the Groundfish Stock Assessment Process Review Workshop. For further information on public listening stations, call Mr. John DeVore at (503) 820-2280 or Dr. Jim Hastie at (206) 860-3412.

Council address: Pacific Fishery Management Council, 7700 NE. Ambassador Place, Suite 101, Portland, OR 97220-1384; telephone: (503) 820-2280.

FOR FURTHER INFORMATION CONTACT: Mr. John DeVore, Pacific Fishery Management Council; telephone: (503) 820-2280.

SUPPLEMENTARY INFORMATION: The purpose of the Groundfish Stock Assessment Process Review Workshop webinar is for participants in the Council's 2011 stock assessment process to consider the procedures used in 2011 to assess and update groundfish stock abundance and develop recommendations for improving the process for future assessments and future assessment reviews. No management actions will be decided in this workshop. Any recommendations developed at the workshop will be submitted for consideration by the Council at its March meeting in Sacramento, CA.

Although non-emergency issues not identified in the workshop agenda may come before the workshop participants for discussion, those issues may not be the subject of formal action during this workshop. Formal action at the workshop will be restricted to those issues specifically listed in this notice and any issues arising after publication of this notice that require emergency action under Section 305(c) of the Magnuson-Stevens Fishery Conservation and Management Act, provided the public has been notified of the workshop participants' intent to take final action to address the emergency.

Special Accommodations

This workshop is physically accessible to people with disabilities. Requests for sign language interpretation or other auxiliary aids should be directed to Mr. Kris Kleinschmidt at (503) 820-2280 at least 5 days prior to the workshop date.

Dated: November 18, 2011.
Tracey L. Thompson,
Acting Director, Office of Sustainable Fisheries, National Marine Fisheries Service.

[FR Doc. 2011-30211 Filed 11-22-11; 8:45 am]

BILLING CODE 3510-22-P